DEPARTMENT OF COMMERCE

Foreign-Trade Zones Board

[S-217-2020]

Foreign-Trade Zone 22—Chicago, Illinois; Application for Subzone Expansion; Abbott Laboratories, Itasca, Illinois

An application has been submitted to the Foreign-Trade Zones (FTZ) Board by the Illinois International Port District, grantee of FTZ 22, requesting an expansion of Subzone 22F on behalf of Abbott Laboratories (Abbott), located in Itasca, Illinois. The application was submitted pursuant to the provisions of the Foreign-Trade Zones Act, as amended (19 U.S.C. 81a-81u), and the regulations of the FTZ Board (15 CFR part 400). It was formally docketed on December 8, 2020.

Subzone 22F currently consists of the following sites: Site 2 (480 acres)—One Abbott Park Road, North Chicago; Site 3 (129 acres)—Atkinson Road, North Chicago; Site 4 (42 acres) 22nd Street, North Chicago; Site 5 (17 acres)—1300 East Touhy, Des Plaines; and, Site 7 (1.4 acres)—1800 Brummel Avenue, Elk Grove Village.

The proposed expansion would add an additional site to the subzone: Proposed Site 8 (5.64 acres)—1015 West Devon Avenue, Itasca, DuPage County. No authorization for expanded production activity has been requested at this time. The subzone will be subject to the existing activation limit of FTZ 22.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is January 25, 2021. Rebuttal comments in response to material submitted during the foregoing period may be submitted during the subsequent 15-day period to February 8, 2021.

A copy of the application will be available for public inspection in the “Reading Room” section of the FTZ Board's website, which is accessible via www.trade.gov/ftz.

For further information contact Elizabeth Whiteman at Elizabeth.Whiteman@trade.gov.

Dated: December 9, 2020.
Andrew McGilvray,
Executive Secretary.

[FR Doc. 2020-27424 Filed 12-11-20; 8:45 am]

BILLING CODE 3510-DS-P